DEPARTMENT OF HOMELAND SECURITY

[Docket Number DHS-2023-0011]

Agency Information Collection Activities: Generic Clearance for Formative Data Collections for Evaluation, Research, and Evidence Building

AGENCY: Department of Homeland Security (DHS).

ACTION: 60-Day notice and request for comments.

SUMMARY: The Department of Homeland Security, will submit the following Information Collection Request (ICR) to the Office of Management and Budget (OMB) for review and clearance in accordance with the Paperwork Reduction Act of 1995.

DATES: Comments are encouraged and will be accepted until May 15, 2023. This process is conducted in accordance with 5 CFR 1320.1.

ADDRESSES: You may submit comments, identified by docket number Docket #DHS-2023-0011, at:

○ Federal eRulemaking Portal: https://www.regulations.gov. Please follow the instructions for submitting comments.

Instructions: All submissions received must include the agency name and docket number Docket #DHS-2023-0011. All comments received will be posted without change to https://www.regulations.gov, including any personal information provided.

Docket: For access to the docket to read background documents or comments received, go to https://www.regulations.gov.

SUPPLEMENTARY INFORMATION: The U.S. Department of Homeland Security (DHS) intends to request approval from OMB for a generic clearance to design and conduct formative studies with more than nine participants that inform the DHS's evaluation, research, and evidence-building activities. The Generic Clearance for Formative Data Collections for Evaluation, Research, and Evidence Building is a new information collection request.

The DHS anticipates undertaking various new evaluation, research, and evidence-building activities related to the priority questions identified in the Agency's Learning Agenda and Annual Evaluation Plans. The evidence-building activities include formative evaluations of existing programs, process, and new initiatives; logic model development and testing; process or journey mapping; research syntheses; survey, questionnaire, and metric development; analysis; and foundational fact-finding through descriptive and exploratory studies. Pursuant to Executive Orders 13985, Advancing Racial Equity and Support for Underserved Communities Through the Federal Government, and 14058, Transforming Federal Customer Experience and Service Delivery to Rebuild Trust in Government, the DHS continuously seeks to ensure that the Agency's programs are effective, designed and delivered in a manner all people can navigate, reach underserved communities, promote equitable delivery of services, and meet customers' needs. In accordance with the DHS's commitment to advancing equity, improving service delivery, and promoting trust, the information collected under this generic clearance is necessary to enable the Agency to gather customer and stakeholder feedback in a timely and efficient manner.

Under this generic clearance, the DHS would engage in a variety of formative and exploratory data collections with DHS grantees, program and potential program providers and participants, researchers, practitioners, and other stakeholders to fulfill the following goals:

• maintain a rigorous and relevant evaluation and research agenda,

• inform the development of the DHS's evidence-building activities,

• inform the delivery of targeted assistance and workflows related to program and grantee processes,

• inform the development and refinement of recordkeeping and communication systems,

• plan for provision of programmatic or evidence-capacity-related training or technical assistance,

• obtain grantee or stakeholder input on the development or refinement of program logic models, evaluations, and performance measures,

• test activities to strengthen programs, and

• preparation for summative evaluations.

The formative studies will collect data using well-established methodologies, including but not limited to semi-structured small group discussions or focus groups, questionnaires and surveys, observation, interviews, and cognitive interviews and user testing (e.g., in-person, video, and audio collections). The data collected will be used to improve internal decision-making, such as improvements of program management and the delivery of products and services, and to inform future studies but will not be highly systematic nor intended to be statistically representative. The data collection efforts are also not intended to produce influential information that is expected to have a genuinely clear and substantial impact on major policy decisions.

The DHS will conduct a variety of formative studies under this clearance. The exact nature of the instruments and the samples is dependent on each individual project and details will be provided for each individual information collection requests submitted. The DHS and its contractors will collect information electronically and/or use online collaboration tools, as appropriate, to reduce the burden. Specific information regarding the use of technology will be submitted with each individual information collection request. Following standard OMB requirements, the DHS will submit a change request for each individual data collection activity under this generic clearance. Each request will include the data collection method, sampling strategy, a copy of the individual instruments or questionnaires, recruitment materials, protocols, and as appropriate, other supplementary materials describing the project. OMB should review within 10 days of receiving each change request.

Respondents include DHS grantees, program and potential program providers and participants, researchers, practitioners, and other stakeholder groups involved in DHS programs, experts in fields pertaining to DHS evaluation and research, or others involved in conducting DHS evaluation, research, or evidence-building projects. Small business or other small entities may be involved in these efforts but the DHS will minimize the burden on them of information collections approved under this clearance by sampling, asking for readily available information, and using short, easy-to-complete information collection instruments.

The DHS anticipates that all data information collected under this generic clearance will involve a one-time data collection. However, if a data collection effort involved a more frequent collection, the rationale and detail will be provided in the individual information collection request. These data collections will allow for collaborative, ongoing, and actionable communications between the Agency and its customers and stakeholders and allow the DHS to identify the strengths and weaknesses of current programs, pilots, initiatives, and services. The efficient and timely formative collection efforts allow feedback to contribute directly to rapid cycle improvements of program management and the delivery of products and services. Conversely, the failure to engage in formative data collection substantially limits the DHS's ability to understand emerging needs and issues, identify evidence gaps, build evidence about programs and initiatives, and inform the development of future impact studies to ensure that DHS leadership and program offices have current data and information to implement DHS programs and initiatives successfully.

If the Privacy Act does apply to a collection, the DHS will provide a Privacy Act statement, System of Record Notices (SORN), or other associated documentation, as appropriate. Participation in any formative data collection effort will be voluntary, and personally identifiable information will only be collected to the extent necessary. Respondents will be informed of all planned data uses, that their participation is voluntary, and that their information will be kept private to the extent permitted by law. All data collection shall protect respondent privacy to the extent permitted by law and will comply with all Federal and Agency regulations for private information. If a confidentiality pledge is deemed necessary, the Agency will only include a pledge of confidentiality supported by authority established in statute or regulation, supported by disclosure and data security policies that are consistent with the pledge.

The primary purpose of data collected under this generic clearance is not for publication. However, because the formative data collection efforts are intended to inform the DHS's decision-making related to evidence-building and programmatic activities, the findings may be incorporated into documents and presentations available to the public. Such documents may include design and method documents; process or journey maps, conceptual frameworks, or logic models; performance metrics; background materials for technical workgroups, informational presentations, technical assistance plans; and evaluation or research reports. The aggregated results of this work may be prepared for presentation at professional meetings or disseminated in evaluation reports, research papers, and professional journals. Although not anticipated, the DHS may receive requests to release the information (e.g., congressional inquiry, Freedom of Information Act requests) and will disseminate the findings when appropriate, following the Agency's guidelines. Shared findings will include a discussion of the limitations regarding generalizability and intended use, and when necessary, results will be labeled as formative or exploratory.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Generic Clearance for Formative Data Collections for Evaluation, Research, and Evidence Building.

OMB Number: OMB Control Number.

Frequency: One-time collection.

Affected Public: Participants in DHS programs being evaluated; participants in DHS pilots and demonstrations; recipients of DHS grants and individuals served by DHS grantees; comparison group members; and other relevant populations, such as individuals eligible for DHS services.

Number of Respondents: 22,750.

Estimated Time per Respondent: 33 minutes.

Total Burden Hours: 12,488.

Robert Dorr,
Executive Director, Business Management Directorate.

[FR Doc. 2023-05131 Filed 3-13-23; 8:45 am]

BILLING CODE 9112-FL-P